DEPARTMENT OF TRANSPORTATION

Federal Aviation Administration

14 CFR Part 39

[Docket No. FAA-2005-20596; Directorate Identifier 2004-NM-113-AD; Amendment 39-14086; AD 2005-10-09]

RIN 2120-AA64

Airworthiness Directives; Saab Model SAAB SF340A and SAAB 340B Series Airplanes

AGENCY: Federal Aviation Administration (FAA), Department of Transportation (DOT).

ACTION: Final rule.

SUMMARY: The FAA is superseding an existing airworthiness directive (AD), which applies to certain Saab Model SAAB SF340A and SAAB 340B series airplanes. That AD currently requires repetitive detailed inspections of the windshield wiper assembly for discrepant conditions, and corrective actions if necessary. This new AD requires repetitive detailed inspections of the left and right wiper arm assemblies for damage, and corrective/related investigative actions if necessary. This AD is prompted by an additional incident of a windshield wiper blade separating from the wiper arm. We are issuing this AD to prevent separation of a wiper arm from the airplane, which could result in damage to the fuselage skin and propeller.

DATES: This AD becomes effective June 21, 2005.

The incorporation by reference of Saab Service Bulletin 340-30-088, dated October 7, 2003, listed in the AD, is approved by the Director of the Federal Register as of June 21, 2005.

On October 28, 1998 (63 FR 50753, September 23, 1998), the Director of the Federal Register approved the incorporation by reference of Saab Service Bulletin 340-30-081, dated November 14, 1997, including Attachment 1, Revision 1, dated September 14, 1997.

ADDRESSES: For service information identified in this AD, contact Saab Aircraft AB, SAAB Aircraft Product Support, S-581.88, Linköping, Sweden.

Docket: The AD docket contains the proposed AD, comments, and any final disposition. You can examine the AD docket on the Internet at http://dms.dot.gov, or in person at the Docket Management Facility office between 9 a.m. and 5 p.m., Monday through Friday, except Federal holidays. The Docket Management Facility office (telephone (800) 647-5227) is located on the plaza level of the Nassif Building at the U.S. Department of Transportation, 400 Seventh Street SW., room PL-401, Washington, DC. This docket number is FAA-2005-20596; the directorate identifier for this docket is 2004-NM-113-AD.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION: The FAA proposed to amend part 39 of the Federal Aviation Regulations (14 CFR part 39) with an AD to supersede AD 98-20-11, amendment 39-10778 (63 FR 50755, September 23, 1998). The existing AD applies to certain Saab Model SAAB SF340A and SAAB 340B series airplanes. The proposed AD was published in the Federal Register on March 15, 2005 (70 FR 12616), to continue to require repetitive detailed inspections of the left and right wiper arm assemblies for damage, and corrective/related investigative actions if necessary. The proposed AD would also require a detailed inspection of the left and right wiper arm assemblies for damage, and corrective/related investigative actions if necessary.

Comments

We provided the public the opportunity to participate in the development of this AD. We have considered the comment that has been submitted on the proposed AD. The commenter supports the proposed AD.

Conclusion

We have carefully reviewed the available data, including the comment that has been submitted, and determined that air safety and the public interest require adopting the AD as proposed.

Costs of Compliance

The following table provides the estimated costs for U.S. operators to comply with this AD.

Estimated Costs
Action | Work hours | Average labor rate per hour | Cost per airplane | Number of U.S.-registered airplanes | Fleet cost
Inspection (required by AD 98-20-11) | 1 | $65 | $65, per inspection cycle | 170 | $11,050, per inspection cycle.
Extended Inspection (new action) | 1 | $65 | $65, per inspection cycle | 170 | $11,050 per inspection cycle.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing amendment 39-10778 (63 FR 50755, September 23, 1998) and by adding the following new airworthiness directive (AD):

2005-10-09 Saab Aircraft AB: Amendment 39-14086. Docket No. FAA-2005-20596; Directorate Identifier 2004-NM-113-AD.

Effective Date

(a) This AD becomes effective June 21, 2005.

Affected ADs

(b) This AD supersedes AD 98-20-11, amendment 39-10778 (63 FR 50755, September 23, 1998).

Applicability

(c) This AD applies to Saab Model SAAB SF340A and SAAB 340B series airplanes, certificated in any category, as identified in Saab Service Bulletin 340-30-088, dated October 7, 2003.

Unsafe Condition

(d) This AD was prompted by an additional incident of a windshield wiper blade separating from the wiper arm. We are issuing this AD to prevent separation of a wiper arm from the airplane, which could result in damage to the fuselage skin and propeller.

Compliance

(e) You are responsible for having the actions required by this AD performed within the compliance times specified, unless the actions have already been done.

Requirements of AD 98-20-11

(f) For Model SAAB SF340A series airplanes, manufacturer serial number (S/Ns) 004 through 159 inclusive; and Model SAAB 340B series airplanes, manufacturer S/Ns 160 through 399 inclusive: Prior to the accumulation of 4,000 total flight hours, or within 3 months after October 28, 1998 (the effective date of AD 98-20-11), whichever occurs later, perform a detailed inspection of the windshield wiper assembly for discrepancies (corrosion; excessive wear; missing, loose, or broken parts; improper alignment; and insecure attachment), in accordance with Saab Service Bulletin 340-30-081, dated November 14, 1997, including Attachment 1, Revision 1, dated September 14, 1997.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

(1) If no discrepancy is detected during the inspection, repeat the inspection thereafter at intervals not to exceed 4,000 flight hours until the inspection required by paragraph (g) of this AD is accomplished.

(2) If any discrepancy is detected during any inspection, prior to further flight, replace the windshield wiper assembly with a new or serviceable windshield wiper assembly, or repair in accordance with Saab Service Bulletin 340-30-081, dated November 14, 1997, including Attachment 1, Revision 1, dated September 14, 1997. Repeat the detailed inspection thereafter at intervals not to exceed 4,000 flight hours, until the inspection required by paragraph (g) of this AD is accomplished.

New Requirements of This AD

Detailed Inspection of Wiper Arm Assemblies

(g) For all airplanes: Within 6 months after the effective date of this AD, do a detailed inspection of the left and right wiper arm assemblies for damage and any applicable corrective/investigative actions, by doing all of the actions specified in the Accomplishment Instructions of Saab Service Bulletin 340-30-088, dated October 7, 2003. Repeat the inspection thereafter at intervals not to exceed 800 flight hours. Accomplishment of this inspection terminates the repetitive inspections required by paragraphs (f)(1) and (f)(2) of this AD.

(h) Airplanes on which the inspection required by paragraph (g) of this AD is done within the compliance time specified in paragraph (f) of this AD are not required to accomplish the inspection required by paragraph (f) of this AD.

Alternative Methods of Compliance (AMOCs)

(i) The Manager, International Branch, ANM-116, Transport Airplane Directorate, FAA, has the authority to approve AMOCs for this AD, if requested in accordance with the procedures found in 14 CFR 39.19.

Related Information

(j) Swedish airworthiness directive 1-193, dated October 8, 2003, also addresses the subject of this AD.

Material Incorporated by Reference

(k) You must use Saab Service Bulletin 340-30-081, dated November 14, 1997, including Attachment 1, Revision 1, dated September 14, 1997; and Saab Service Bulletin 340-30-088, dated October 7, 2003; as applicable; to perform the actions that are required by this AD, unless the AD specifies otherwise.

(1) The Director of the Federal Register approves the incorporation by reference of Saab Service Bulletin 340-30-088, dated October 7, 2003, in accordance with 5 U.S.C. 552(a) and 1 CFR part 51.

(2) On October 28, 1998 (63 FR 50753), the Director of the Federal Register approved the incorporation by reference of Saab Service Bulletin 340-30-081, dated November 14, 1997, including Attachment 1, Revision 1, dated September 14, 1997.

(3) To get copies of the service information, contact Saab Aircraft AB, SAAB Aircraft Product Support, S-581.88, Linköping, Sweden. To view the AD docket, go to the Docket Management Facility, U.S. Department of Transportation, 400 Seventh Street SW., room PL-401, Nassif Building, Washington, DC. To review copies of the service information, contact the National Archives and Records Administration (NARA). For information on the availability of this material at the NARA, call (202) 741-6030, or go to http://www.archives.gov/federal_register/code_of_federal_regulations/ibr_locations.html.

Issued in Renton, Washington, on May 5, 2005.
Kalene C. Yanamura,
Acting Manager, Transport Airplane Directorate, Aircraft Certification Service.

[FR Doc. 05-9468 Filed 5-16-05; 8:45 am]

BILLING CODE 4910-13-P